AGENCY FOR INTERNATIONAL DEVELOPMENT

Notice of Meeting of the Board for International Food and Agricultural Development and Request for Public Comment

AGENCY: Agency for International Development.

ACTION: Notice.

Pursuant to the Federal Advisory Committee Act, notice is hereby given of a public meeting of the Board for International Food and Agricultural Development (BIFAD), A Consultative Workshop on Systemic Solutions for Climate Change Adaptation and Mitigation in Agriculture, Nutrition, and Food Systems, to announce upcoming BIFAD work in the areas of climate change adaptation and mitigation in agricultural, nutrition, and food systems and to seek public input into priorities and evidence gathering. The virtual meeting will be held on August 31, 2022 from 10:30 to 12:30 EDT online. The meeting will be livestreamed via Zoom (registration required) and accessible at the following link: https://www.tickettailor.com/events/bifad/739381.

The meeting will publicly introduce the BIFAD Subcommittee on Systemic Solutions for Climate Change Adaptation and Mitigation in Agriculture, Nutrition, and Food Systems, recently established by BIFAD and USAID to lead transdisciplinary evidence gathering to support USAID's role in accelerating systems change and transformative climate change adaptation and mitigation approaches in agriculture, food systems and nutrition, and in targeting climate finance to benefit smallholder farmers. A list of subcommittee members may be found at this link. The objectives, questions, and proposed methodology of a planned BIFAD-commissioned climate change study, to be guided by the subcommittee, will be shared and discussed.

The meeting will include a public question and answer period and facilitated small group discussions. Public input is sought to: (1) identify leverage points across agricultural, food, and nutrition systems (e.g., financial, production, innovation, market, nutrition, risk management, early warning, and humanitarian systems) for transformative change and scaling climate finance to achieve the targets and intermediate results of the USAID Climate Strategy, 2022-2030 and the U.S. Government Global Food Security Strategy 2022-2026; (2) identify related systems that support transformational change in capacities and institutional constraints; and (3) prioritize areas of USAID action areas to facilitate transformative systemic change that is inclusive of underrepresented populations and promotes gender equity and equality. The public is also invited to comment on the subcommittee's work and to submit names of experts, case studies, evidence, and relevant publications to inform the study.

The BIFAD is a seven-member, presidentially appointed advisory board to the US. Agency for International Development (USAID) established in 1975 under Title XII of the Foreign Assistance Act, as amended, to ensure that USAID brings the assets of U.S. universities to bear on development challenges in agriculture and food security and supports their representation in USAID programming. Public comment is invited to further inform BIFAD's work.

For questions about registration, please contact Carol Chan at carol.chan@tetratech.com. For questions about BIFAD, or to submit written comments, evidence, or materials in advance or following the meeting, please contact Clara Cohen, Designated Federal Officer for BIFAD in the Bureau for Resilience and Food Security at USAID. Interested persons may email her at ccohen@usaid.gov or telephone her at (202) 712-0119.

Clara Cohen,
Designated Federal Officer, BIFAD.

[FR Doc. 2022-16884 Filed 8-5-22; 8:45 am]

BILLING CODE 6116-01-P